Title 3—

The President

Proclamation 8212 of December 19, 2007

National Mentoring Month, 2008

By the President of the United States of America

A Proclamation

Millions of Americans lend their time, talent, and energy to become mentors and make a difference in children's lives. During National Mentoring Month, we honor these caring individuals for their dedication to changing our country one heart and soul at a time.

By sharing their knowledge and experiences, mentors serve as examples for young people and help teach them the skills they need to succeed in life. They also provide stability, instill important values, and build confidence in those they assist. Mentors are soldiers in the armies of compassion, and they encourage children to set goals and achieve their dreams.

My Administration is committed to helping our Nation's children realize their full potential by expanding opportunities for Americans to mentor. To raise awareness of the challenges facing our youth and encourage adults to connect with young people through family, school, and community, First Lady Laura Bush is leading the Helping America's Youth initiative. Through the USA Freedom Corps, we are connecting individuals with volunteer opportunities, including mentors who work with young people in schools and community organizations. By encouraging Americans to mentor, we are doing our part to see that more of America's children grow into strong, confident, and successful adults.

I appreciate all those who reach out to young people and inspire future generations to pass on this rich tradition that makes our country strong. I urge all Americans to get involved in mentoring programs and to visit the USA Freedom Corps website at volunteer.gov to learn more about mentoring opportunities in their communities. Together, we can build a culture of service and foster a more compassionate society that recognizes the value and purpose in every single human life.

NOW, THEREFORE, I, GEORGE W. BUSH, President of the United States of America, by virtue of the authority vested in me by the Constitution and laws of the United States, do hereby proclaim January 2008 as National Mentoring Month. I call upon all Americans to recognize the importance of mentoring, to look for opportunities to serve as mentors in their communities, and to observe this month with appropriate activities and programs.

IN WITNESS WHEREOF, I have hereunto set my hand this nineteenth day of December, in the year of our Lord two thousand seven, and of the Independence of the United States of America the two hundred and thirty-second.

[FR Doc. 07-6202

Filed 12-21-07; 8:45 am]

Billing code 3195-01-P